NUCLEAR REGULATORY COMMISSION

[Docket Number 030-19478]

Notice of Availability of Environmental Assessment and Finding of No Significant Impact for License Amendment for Maxim Technologies, Inc., St. Louis, MO

AGENCY: Nuclear Regulatory Commission.

ACTION: Notice of availability.

FOR FURTHER INFORMATION CONTACT: Dr. Peter J. Lee, Division of Nuclear Materials Safety, U.S. Nuclear Regulatory Commission, Region III, 2443 Warrenville Road, Lisle, Illinois 60532-4352; telephone (630) 829-9870; or by e-mail at pjl2@nrc.gov.

SUPPLEMENTARY INFORMATION:

I. Introduction

The U.S. Nuclear Regulatory Commission (NRC) is considering the issuance of a license amendment to terminate Material License No. 24-17152-02 issued to Maxim Technologies, Inc. (the licensee). The license amendment will approve the licensee's St. Louis, Missouri facility for unrestricted use.

The NRC staff prepared an Environmental Assessment in support of this license action in accordance with the requirements of Title 10, Code of Federal Regulations Part 51, “Environmental Protection Regulations for Domestic Licensing and Related Regulatory Functions.” Based on the Environmental Assessment, the NRC concluded that a Finding of No Significant Impact is appropriate. The amendment will be issued following the publication of this Notice.

II. EA Summary

The purpose of the proposed amendment is to terminate the licensee's byproduct material license and release its St. Louis, Missouri facility for unrestricted use. On October 14, 1983, the NRC authorized the licensee to conduct radiochemical analysis of environmental samples at the facility located at 12161 Lackland Road, St. Louis, Missouri. On April 17, 1989, the NRC authorized the unrestricted release of the 12161 Lackland Road, St. Louis, Missouri facility for unrestricted use and approved the licensee's current facility located at 1908 Innerbelt Business Center Drive, St. Louis, Missouri. On November 17, 2004, Maxim Technologies, Inc. submitted a license amendment requesting termination of its license and requesting release of its facility for unrestricted use. The licensee conducted surveys of the facility and provided information to the NRC to demonstrate that the site meets the license termination criteria in 10 CFR part 20, subpart E, “Radiological Criteria for License Termination,” for unrestricted release. The NRC staff examined the licensee's request and the information provided in support of its request, including the surveys performed to demonstrate compliance with 10 CFR 20.1402, “Radiological Criteria for Unrestricted Use,” to ensure that the NRC's decision is protective of the public health and safety and the environment.

III. Finding of No Significant Impact

On the basis of the Environmental Assessment, NRC concluded that there are no significant environmental impacts from the proposed amendment and determined not to prepare an environmental impact statement.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are: ML043240226 for the November 17, 2004, amendment request, and ML050460378 for the Environmental Assessment summarized above. If you do not have access to ADAMS or if there are problems in accessing the documents located in ADAMS, contact the NRC's Public Document Room (PDR) Reference staff at 1-800-397-4209, 301-415-4737, or by e-mail to pdr@nrc.gov.

These documents may also be viewed electronically on the public computers located at the NRC's PDR, O 1 F21, One White Flint North, 11555 Rockville Pike, Rockville, MD 20852. The PDR reproduction contractor will copy documents for a fee.

Dated at Lisle, Illinois, this 15th day of February 2005.
For the Nuclear Regulatory Commission.
Jamnes L. Cameron,
Chief, Decommissioning Branch, Division of Nuclear Materials Safety, Region III.

[FR Doc. 05-3735 Filed 2-25-05; 8:45 am]

BILLING CODE 7590-01-P